DEPARTMENT OF ENERGY

Federal Energy Regulatory Commission

[Docket Nos. PL04-6-000; ER03-583-000, ER03-583-001 and ER03-583002; ER03-681-000 and ER03-681-001; ER03-682-000, ER03-682-001 and ER03-682-002; ER03-744-000 and ER03-744-001 (Consolidated); ER03-753-000 (Not Consolidated); ER03-713-000 and ER03-713-001]

Solicitation Processes for Public Utilities; Entergy Services, Inc. and EWO Marketing, L.P.; Entergy Services, Inc. and Entergy Power, Inc.; Entergy Services, Inc. and Entergy Power, Inc.; Entergy Services, Inc. and Entergy Louisiana, Inc.; Entergy Services, Inc.; and Southern Power Company; Supplemental Notice for Technical Conference

June 3, 2004.

This supplemental notice provides additional information concerning the technical conference to discuss issues associated with solicitation processes for power procurement on June 10, 2004, from 9 a.m. to 12 p.m. (e.s.t.) in the Commission's Meeting Room at the Federal Energy Regulatory Commission, 888 First Street, NE., Washington, DC. All interested persons are invited to attend. Microphones will be available to enable those in the audience to participate in the discussion as issues arise. Members of the Commission will participate in the conference. While the Commission does not intend the conference discussion to include the merits of any issues pending before it in contested proceedings, we have included the docket numbers of contested pending section 205 cases out of an abundance of caution since issues in the conference may overlap with issues in these cases.

The conference will be transcribed. Those interested in acquiring the transcript should contact Ace Reporters at 202-347-3700 or 800-336-6646. Transcripts will be placed in the public record 10 days after the Commission receives the transcripts. Additionally, Capitol Connection offers the opportunity for remote listening and viewing of the conference. It is available for a fee, live over the Internet, by phone or via satellite. Persons interested in receiving the broadcast, or who need information on making arrangements, should contact David Reininger or Julia Morelli at Capitol Connection (703-993-3100) as soon as possible or visit the Capitol Connection Web site at http://www.capitolconnection.org and click on “FERC.”

For more information about the conference, please contact Mary Beth Tighe at 202-502-6452 or mary.beth.tighe@ferc.gov.

Linda Mitry,
Acting Secretary.

[FR Doc. E4-1318 Filed 6-9-04; 8:45 am]

BILLING CODE 6717-01-P